DEPARTMENT OF TRANSPORTATION

Federal Aviation Administration

Twenty-First Meeting—RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on October 7-9, 2008, from 9:00 a.m. to 4:30 p.m. (unless stated otherwise).

ADDRESSES: The meeting will be held at Conference Rooms, 1828 L Street, NW., Suite 805, Washington, DC 20036.

FOR FURTHER INFORMATION CONTACT: RTCA Secretariat, 1828 L Street, NW., Suite 805, Washington, DC, 20036-5133; telephone (202) 833-9339; fax (202) 833-9434; Web site http://www.rtca.org.

Primary Purpose of Meeting: The plenary is to develop consensus on FRAC comment disposition and recommendation to publish updated DO-294B and Change I to DO-307.

SUPPLEMENTARY INFORMATION: Pursuant to section 10(a)(2) of the Federal Advisory Committee Act (Pub. L. 92-463, 5 U.S.C., Appendix 2), notice is hereby given for a Special Committee 202 Portable Electronic Devices meeting. The agenda will include:

October 7

• Opening Plenary Session (Welcome and Introductory Remarks, Agenda Overview).

• Approval of Summary of the Twentieth Meeting held August 5-7, 2008, RTCA Paper No. 181-08/SC202-143 dated August 12, 2008.

• Update from Regulatory Agencies (FAA, UK-CAA, Canadian TSB, FCC, Japanese-CAB, NCAA-Brazil, or others present).

• Update on EUROCAE Working Group WGS8 status.

• Update on CEA activities, including the CEA Bulletin—Recommended Practice for T-PEDs.

• Update on inputs to SC-202 from TIA.

• Update on inputs to SC-202 from WiFi Alliance/IEEE 802.18.

• Status of Change 1 to DO-307: FRAC comments received, initial recommendations on disposition, plan to complete comment disposition, plan for consensus on final draft document recommendation to publish.

• Status of proposed update DO-294B document: FRAC comments received, initial recommendations on disposition, plan to complete comment disposition, plan for consensus on final draft document recommendation to publish.

• BREAK-OUT Session for work on FRAC comment disposition and document final Drafts.

October 8

• Chairmen's Plenary Day 2 Opening Remarks and Process Check.

• Status of Change 1 to DO-307: Recommendations on disposition of review comments, plan to complete comment disposition, plan for consensus on final draft document recommendation to publish.

• Status of proposed update DO-294B document: Recommendations on disposition of review comments, plan to complete comment disposition, plan for consensus on final draft document recommendation to publish.

• Committee discussions on final drafts work plan and schedule for completion.

• BREAK-OUT Session for work on FRAC comment disposition and document final drafts.

October 9

• Chairmen's Plenary Day 3 Opening Remarks and Process Check

• Review draft document completion status:

• FRAC comment disposition status

• TOR compliance determination

• Plan for closure of any remaining open issues

• Plenary consensus on:

• Open Action items

• Plan for completion of open action items:

• final action items to disposition FRAC comments and

• format materials for PMC concurrence on publication recommendation

• Recommend publication of Change 1 to DO-307

• Recommend publication of update to DO-294B

• Other Business

• Concluding Remarks

• Closing Plenary Session (Other Business, Confirm Date and purpose of Upcoming Meetings)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 10, 2008.
Ed Harris,
RTCA Advisory Committee.

[FR Doc. E8-21810 Filed 9-19-08; 8:45 am]

BILLING CODE 4910-13-